DEPARTMENT OF ENERGY

Federal Energy Regulatory Commission

[Docket No. EL05-41-000]

Xcel Energy Services, Inc. and Southwest Power Pool, Inc.; Notice of Initiation of Proceeding and Refund Effective Date

January 14, 2005.

On December 17, 2004, the Commission issued an order instituting a proceeding in Docket No. EL05-41-000 under section 206 of the Federal Power Act.

The refund effective date in Docket No. EL05-41-000, established pursuant to section 206(b) of the Federal Power Act will be May 20, 2005.

Magalie R. Salas,
Secretary.

[FR Doc. E5-287 Filed 1-25-05; 8:45 am]

BILLING CODE 6717-01-P